DEPARTMENT OF TRANSPORTATION

Federal Aviation Administration

14 CFR Part 39

[Docket No. 2002-NM-226-AD; Amendment 39-13480; AD 2004-03-36]

RIN 2120-AA64

Airworthiness Directives; Dornier Model 328-100 Series Airplanes

AGENCY: Federal Aviation Administration, DOT.

ACTION: Final rule.

SUMMARY: This amendment adopts a new airworthiness directive (AD), applicable to certain Dornier Model 328-100 series airplanes, that requires a one-time inspection of certain engine control cables to determine the batch number on the end fitting, and replacement of affected cables with new cables. This action is necessary to prevent failure of defective engine control cables, which could result in loss of the engine controls, and consequent reduced controllability of the airplane. This action is intended to address the identified unsafe condition.

DATES: Effective March 24, 2004.

The incorporation by reference of certain publications listed in the regulations is approved by the Director of the Federal Register as of March 24, 2004.

ADDRESSES: The service information referenced in this AD may be obtained from AvCraft Aerospace GmbH, P.O. Box 1103, D-82230 Wessling, Germany. This information may be examined at the Federal Aviation Administration (FAA), Transport Airplane Directorate, Rules Docket, 1601 Lind Avenue, SW., Renton, Washington; or at the Office of the Federal Register, 800 North Capitol Street, NW., Suite 700, Washington, DC.

FOR FURTHER INFORMATION CONTACT: Dan Rodina, Aerospace Engineer, International Branch, ANM-116, FAA, Transport Airplane Directorate, 1601 Lind Avenue, SW., Renton, Washington 98055-4056; telephone (425) 227-2125; fax (425) 227-1149.

SUPPLEMENTARY INFORMATION: A proposal to amend part 39 of the Federal Aviation Regulations (14 CFR part 39) to include an airworthiness directive (AD) that is applicable to certain Dornier Model 328-100 series airplanes was published in the Federal Register on December 5, 2003 (68 FR 67980). That action proposed to require a one-time inspection of certain engine control cables to determine the batch number on the end fitting, and replacement of affected cables with new cables.

Comments

Interested persons have been afforded an opportunity to participate in the making of this amendment. Due consideration has been given to the comments received from one commenter.

Request To Revise Service Information

The commenter requests that the service information be revised to include Dornier Service Bulletin SB-328-76-409, Revision 2, dated October 7, 2002, as an additional source of service information for the accomplishment of the actions required by the proposed AD. (The proposed AD references Dornier Service Bulletin SB-328-76-409, Revision 1, dated May 17, 2002, as the appropriate source of service information.) Revision 2 changes the “Note” on page 1 of the service bulletin from “Other Engine Control Cables with different batch No's are not affected” to “Other Engine Control Cables with different or without batch No's are not affected.” The commenter states that the revision to the “Note” is important to ensure affected operators do not waste resources by replacing engine control cables that do not need replacing.

The FAA agrees with the commenter's request. We reviewed Revision 2 of the service bulletin and find that the actions are otherwise essentially identical to Revision 1. We have revised paragraph (a) of this final to require accomplishment of the actions in accordance with either Revision 1 or Revision 2 of Dornier Service Bulletin SB-328-76-409.

Request To Clarify Paragraph (a)(2), Identification of Manufacturing Batch Number

The commenter also requests that the wording in paragraph (a)(2) of the proposed AD be changed. The commenter states that the text in paragraphs (a)(1) and (a)(2) is contradictory and misleading. Paragraph (a)(1) states, “if no engine control cable has a P/N and an MBN specified in paragraph (a) of this AD, no further action is required by this paragraph.” Paragraph (a)(2) states, “if any engine control cable having the P/N or an MBN specified in paragraph (a) of this AD is found, before further flight, replace the cable in accordance with the Accomplishment Instructions of the service bulletin.” The commenter states that paragraph (a)(2) is essentially telling operators that if the engine control cable inspected in paragraph (a) has part number (P/N) 001A761A1130-016, it must be replaced before further flight. The commenter states that the intent of the service bulletin is that an engine control cable be replaced only if the cable has P/N 001A761A1130-016 and is engraved with manufacturing batch number (MBN) 1000125850 or 1000144210.

We agree with the commenter's request to change the wording of paragraph (a)(2) in this final rule. As written, it is not clear that only engine control cables having a certain P/N that is engraved with a certain MBN must be replaced. We have changed the wording in paragraph (a)(2) of this final rule to “if any engine control cable has a P/N and an MBN specified in paragraph (a) of this AD, before further flight, replace the cable in accordance with the Accomplishment Instructions of the service bulletin.”

Conclusion

After careful review of the available data, including the comments noted above, the FAA has determined that air safety and the public interest require the adoption of the rule with the changes described previously. The FAA has determined that these changes will neither increase the economic burden on any operator nor increase the scope of the AD.

Cost Impact

We estimate that 53 airplanes of U.S. registry will be affected by this AD, that it will take approximately 1 work hour per airplane to accomplish the required actions, and that the average labor rate is $65 per work hour. Based on these figures, the cost impact of the AD on U.S. operators is estimated to be $3,445, or $65 per airplane.

Replacement of an engine control cable, if required, would take approximately 8 work hours, at an average labor rate of $65 per work hour. Parts would be provided at no cost to operators. Based on these figures, the cost impact of the replacement of an engine control cable is $520 per cable.

The cost impact figures discussed above are based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2004-03-36 Fairchild Dornier GMBH (Formerly Dornier Luftfahrt GmbH): Amendment 39-13480. Docket 2002-NM-226-AD.

Applicability: Model 328-100 series airplanes, as listed in Dornier Service Bulletin SB-328-76-409, Revision 2, dated October 7, 2002; certificated in any category.

Compliance: Required as indicated, unless accomplished previously.

To prevent failure of defective engine control cables, which could result in loss of the engine controls, and consequent reduced controllability of the airplane, accomplish the following:

Identification of Manufacturing Batch Number

(a) Within 4,000 flight hours after the effective date of this AD, do a detailed inspection of the engine control cables for cables that have part number (P/N) 001A761A1130-016, engraved with manufacturing batch number (MBN) 1000125850 or 1000144210 installed. Inspect in accordance with the Accomplishment Instructions of Dornier Service Bulletin SB-328-76-409, Revision 1, dated May 17, 2002; or Dornier Service Bulletin SB-328-76-409, Revision 2, dated October 7, 2002.

Note 1: For the purposes of this AD, a detailed inspection is defined as: “An intensive visual examination of a specific structural area, system, installation, or assembly to detect damage, failure, or irregularity. Available lighting is normally supplemented with a direct source of good lighting at intensity deemed appropriate by the inspector. Inspection aids such as mirror, magnifying lenses, etc., may be used. Surface cleaning and elaborate access procedures may be required.”

(1) If no engine control cable has a P/N and an MBN specified in paragraph (a) of this AD, no further action is required by this paragraph.

(2) If any engine control cable has a P/N and an MBN specified in paragraph (a) of this AD, before further flight, replace the cable in accordance with the Accomplishment Instructions of the service bulletin. Although the service bulletin specifies to send any engine control cable that has been removed from the airplane to the part manufacturer, this AD does not require that action.

Parts Installation

(b) As of the effective date of this AD, no person may install an engine control cable having P/N 001A761A1130-016, engraved with MBN 1000125850 or 1000144210, on any airplane.

Alternative Methods of Compliance

(c) In accordance with 14 CFR 39.19, the Manager, International Branch, ANM-116, FAA, Transport Airplane Directorate, is authorized to approve alternative methods of compliance for this AD.

Incorporation by Reference

(d) The actions shall be done in accordance with Dornier Service Bulletin SB-328-76-409, Revision 1, dated May 17, 2002; or Dornier Service Bulletin SB-328-76-409, Revision 2, dated October 7, 2002. This incorporation by reference was approved by the Director of the Federal Register in accordance with 5 U.S.C. 552(a) and 1 CFR part 51. Copies may be obtained from AvCraft Aerospace GmbH, P.O. Box 1103, D-82230 Wessling, Germany. Copies may be inspected at the FAA, Transport Airplane Directorate, 1601 Lind Avenue, SW., Renton, Washington; or at the Office of the Federal Register, 800 North Capitol Street, NW., Suite 700, Washington, DC.

Note 2: The subject of this AD is addressed in German airworthiness directive 2002-252, dated September 5, 2002.

Effective Date

(e) This amendment becomes effective on March 24, 2004.

Issued in Renton, Washington, on February 5, 2004.
Kevin M. Mullin,
Acting Manager, Transport Airplane Directorate, Aircraft Certification Service.

[FR Doc. 04-3204 Filed 2-17-04; 8:45 am]

BILLING CODE 4910-13-P